DEPARTMENT OF ENERGY

Federal Energy Regulatory Commission

[Docket No. EL19-71-000]

Manitowoc Public Utilities; Notice of Institution of Section 206 Proceeding

May 17, 2019.

On May 17, 2019, the Commission issued an order in Docket No. EL19-71-000, pursuant to section 206 of the Federal Power Act (FPA), 16 U.S.C. 824e (2012), instituting an investigation into whether the reactive power revenue requirement of Manitowoc Public Utilities may be unjust and unreasonable. Manitowoc Public Utilities, 167 FERC ¶ 61,157 (2019).

Any interested person desiring to be heard in Docket No. EL19-71-000 must file a notice of intervention or motion to intervene, as appropriate, with the Federal Energy Regulatory Commission, 888 First Street NE, Washington, DC 20426, in accordance with Rule 214 of the Commission's Rules of Practice and Procedure, 18 CFR 385.214 (2018), within 21 days of the date of issuance of the order.

Dated: May 17, 2019.
Nathaniel J. Davis, Sr.,
Deputy Secretary.

[FR Doc. 2019-10876 Filed 5-23-19; 8:45 am]

BILLING CODE 6717-01-P